ENVIRONMENTAL PROTECTION AGENCY

40 CFR Part 52

[EPA-R06-OAR-2016-0688; FRL-9955-02- R6]

Air Plan Approval; Louisiana; Repeal of Excess Emissions Related Provisions

Correction

In rule document 2022-21248 beginning on page 60292 in the issue of Wednesday, October 5, 2022, make the following correction:

Subpart T [CORRECTED]

On page 60294, in Subpart T, in the third column, in the ninth through fifth lines from the bottom, amendatory instruction 2.d should read:

d. Under “Chapter 23—Control of Emissions from Specific Industries,” remove the heading “Subchapter D. Emission Standards for the Nitric Acid Industry,” and the entries “Section 2307.C.1.a,” and “Section 2307.C.2.a.”

[FR Doc. C1-2022-21248 Filed 12-15-22; 8:45 am]

BILLING CODE 0099-10-P